FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 018041N.

Name: Airsealand Express Incorporated.

Address: 151 Haskin Way, Unit E, So. San Francisco, CA 94080.

Date Revoked: May 31, 2008.

Reason: Failed to maintain a valid bond.

License Number: 004092F.

Name: Amerford FMS, Inc.

Address: 2131 W. Willow Street, Ste. 201, Long Beach, CA 90810.

Date Revoked: May 21, 2008.

Reason: Failed to maintain a valid bond.

License Number: 014460NF.

Name: Anthem Worldwide Lines, Inc.

Address: 30 Montgomery Street, Ste. 200, Jersey City, NJ 07302.

Date Revoked: May 11, 2008.

Reason: Failed to maintain valid bonds.

License Number: 020384F.

Name: AOL Solutions, Inc. dba AOL Freight Solutions.

Address: 1836 Center Park Drive, Charlotte, NC 28217.

Date Revoked: May 10, 2008.

Reason: Failed to maintain a valid bond.

License Number: 004659F.

Name: Baron Worldwide, Inc.

Address: 4400 So. Federal Blvd., Ste. 2-B, Sheridan, CO 80110.

Date Revoked: May 28, 2008.

Reason: Failed to maintain a valid bond.

License Number: 015127NF.

Name: Carroll International Transport, Inc.

Address: 1308 Centennial Ave., Ste. 147, Piscataway, NJ 08854.

Date Revoked: May 11, 2008.

Reason: Failed to maintain valid bonds.

License Number: 017254N.

Name: Central Ocean Freight Inc.

Address: 69-49 198th Street, Fresh Meadows, NY 11365.

Date Revoked: May 4, 2008.

Reason: Failed to maintain a valid bond.

License Number: 017468F.

Name: Cobal International Inc.

Address: 509 Paul Ave., Allendale, NJ 07401.

Date Revoked: May 11, 2008.

Reason: Failed to maintain a valid bond.

License Number: 016781N.

Name: Elite Ocean Cargo, Inc.

Address: 16303 Air Center Blvd., Houston, TX 77032.

Date Revoked: May 2, 2008.

Reason: Failed to maintain a valid bond.

License Number: 020047N.

Name: Fastlane Shipping, Inc.

Address: 1990 Westwood Blvd., Ste. 240, Los Angeles, CA 90025.

Date Revoked: May 27, 2008.

Reason: Surrendered license voluntarily.

License Number: 020101N.

Name: Guaranteed International Freight and Trade Inc.

Address: 239-241 Kingston Ave., Brooklyn, NY 11213.

Date Revoked: May 23, 2008.

Reason: Failed to maintain a valid bond.

License Number: 019693F.

Name: IGX International, Inc.

Address: Acuarela St., #3A Marinez Nadal Ave., Guaynabo, PR 00966.

Date Revoked: May 22, 2008.

Reason: Failed to maintain a valid bond.

License Number: 004324F.

Name: Inter-World Customs Broker, Inc.

Address: Marketing Bldg., J.F. Kennedy Ave., KM 2.5, Puerto Nuevo, PR 00920.

Date Revoked: May 1, 2008.

Reason: Failed to maintain a valid bond.

License Numer: 001736F.

Name: Linda R. Loya dba Loya International Shipping.

Address: 14141 Alondra Blvd., Santa Fe Springs, CA 90670

Date Revoked: May 9, 2008.

Reason: Failed to maintain a valid bond.

License Number: 013934N.

Name: Maritime Freight America Corp.

Address: 701 Newark Ave., Elizabeth, NJ 07208.

Date Revoked: May 19, 2008.

Reason: Surrendered license voluntarily.

License Number: 019296N.

Name: Ours Logis, Inc.

Address: 1139 E. Dominguez Street, Unit L, Carson, CA 90746.

Date Revoked: May 17, 2008.

Reason: Failed to maintain a valid bond.

License Number: 002328N.

Name: Ross Freight Company, Inc.

Address: 26302 So. Western Ave., Ste. 7, Lomita, CA 90717.

Date Revoked: May 30, 2008.

Reason: Failed to maintain a valid bond.

License Number: 003789F.

Name: Ryan Freight Services, Inc.

Address: 902 Hummingbird Trail, Grapevine, TX 76051.

Date Revoked: May 2, 2008.

Reason: Failed to maintain a valid bond.

License Number: 019455NF.

Name: TMMAA Line Houston, Inc.

Address: 15550 Vickery Dr., Ste. 100, Houston, TX 77032.

Date Revoked: May 3, 2008.

Reason: Failed to maintain valid bonds.

License Number: 019299F.

Name: Trans Atlantic Shipping, Inc. dba TAS, Inc.

Address: 1005 W. Arbor Vitae Street, Inglewood, CA 90301.

Date Revoked: May 4, 2008.

Reason: Failed to maintain a valid bond.

License Number: 020240N.

Name: Tug New York, Inc. dba Summit Global Logistics.

Address: 150-15 183rd Street, Springfield Gardens, NY 11413.

Date Revoked: May 19, 2008.

Reason: Surrendered license voluntarily.

License Number: 020738N.

Name: Tug USA, Inc. dba Summit Global Logistics.

Address: 17971 Arenth Ave., City of Industry, CA 91748.

Date Revoked: May 19, 2008.

Reason: Surrendered license voluntarily.

Sandra L. Kusumoto,
Director, Bureau of Certification and Licensing.

[FR Doc. E8-13077 Filed 6-10-08; 8:45 am]

BILLING CODE 6730-01-P